DEPARTMENT OF LABOR

Employment and Training Administration

[TA-W-55,363]

A-N Inc. d/b/a Caraway Décor Center, Marion, North Carolina; Notice of Termination of Investigation

Pursuant to Section 221 of the Trade Act of 1974, an investigation was initiated on August 3, 2004 in response to a worker petition which was filed by a company official on behalf of workers at A-N Inc., d/b/a Caraway Décor Center, Marion, North Carolina.

The petitioner has requested that the petition be withdrawn. Consequently, the investigation has been terminated.

Signed in Washington, DC this 17th day of August, 2004.
Richard Church,
Certifying Officer, Division of Trade Adjustment Assistance.

[FR Doc. 04-19677 Filed 8-27-04; 8:45 am]

BILLING CODE 4510-30-P